DEPARTMENT OF ENERGY

Basic Energy Sciences Advisory Committee

AGENCY: Office of Science, Department of Energy.

ACTION: Notice of open meeting.

SUMMARY: This notice announces a meeting of the Basic Energy Sciences Advisory Committee (BESAC). The Federal Advisory Committee Act (Pub. L. 92-463, 86 Stat. 770) requires that public notice of these meetings be announced in the Federal Register.

DATES:

Tuesday, July 7, 2015 8:30 a.m. to 5:00 p.m.

Wednesday, July 8, 2015 8:00 a.m. to 12:00 noon.

ADDRESSES: Bethesda North Hotel and Conference Center, 5701 Marinelli Road, Bethesda, MD 20852.

FOR FURTHER INFORMATION CONTACT: Katie Runkles; Office of Basic Energy Sciences; U.S. Department of Energy; Germantown Building, 1000 Independence Avenue SW., Washington, DC 20585-1290; Telephone: (301) 903-6529.

SUPPLEMENTARY INFORMATION: Purpose of the Board: The purpose of this Board is to make recommendation to DOE-SC with respect to the basic energy sciences research program.

Tentative Agenda:

• Call to Order, Introductions, Review of the Agenda

• News from the Office of Science

• News from the Office of Basic Energy Sciences

• Report by the BESAC Subcommittee on Transformational Opportunities

• LCLS-II Update

• Materials Sciences and Engineering Division Strategic Planning Process

• Chemical Sciences, Geosciences, and Biosciences Division Strategic Planning Process

• Materials Sciences and Engineering Division Committee of Visitors Report

• Advanced Photon Source Update and Response to the BESAC Future Light Source Report

• Public Comment Session

• Adjourn

Breaks Taken as Appropriate

Public Participation: The meeting is open to the public. If you would like to file a written statement with the Committee, you may do so either before or after the meeting. If you would like to make oral statements regarding any of the items on the agenda, you should contact Katie Runkles at (301) 903-6594 (fax) or katie.runkles@science.doe.gov (email). Reasonable provision will be made to include the scheduled oral statements on the agenda. The Chairperson of the Committee will conduct the meeting to facilitate the orderly conduct of business. Public comment will follow the 10-minute rule.

Minutes: The minutes of this meeting will be available for public review and copying within 45 days by contacting Katie Runkles at the address above.

Issued in Washington, DC, on June 5, 2015.
LaTanya R. Butler,
Deputy Committee Management Officer.

[FR Doc. 2015-14299 Filed 6-10-15; 8:45 am]

BILLING CODE 6450-01-P